DEPARTMENT OF HEALTH AND HUMAN SERVICES

Office of the Secretary

Cooperative Agreement To Establish a National Poverty Research Center and Area Poverty Research Centers: Correction

AGENCY: The Office of the Assistant Secretary for Planning and Evaluation, HHS.

ACTION: Notice; correction.

SUMMARY: The Department of Health and Human Services published a notice in the Federal Register of June 18, 2002, regarding the announcement of the availability of funds and request for applications for a cooperative agreement to establish a National Poverty Research Center and Area Poverty Research Centers. The document contained incorrect information in Part IV.

FOR FURTHER INFORMATION CONTACT: Don Oellerich, 202-690-6805.

Correction

In the Federal Register of June 18, 2002, in FR Doc. 02-15232, at 67 FR 41420, concerning the announcement of the availability of funds and request for applications for a cooperative agreement to establish a National Poverty Research Center and Area Poverty Research Centers, please correct the following:

Part IV, Section A, General Information, page 41426, second column, correct the second line to read as follows:

2. Double line spacing (except for appendices).

Part IV, Section B, Application Development—National Center, on page 41427, second column, add:

(5) Dissemination Plan

A brief discussion of the plans for developing and maintaining a network for the dissemination of findings to the policy and research communities through newsletters, working papers, special reports and briefings. Other dissemination methods are encouraged.

Part IV, Section C, Application Development—Area Poverty Centers, on page 41428, first column, add:

(6) Dissemination Plan

A brief discussion of the plans for developing and maintaining a network for the dissemination of findings to the policy and research communities through newsletters, working papers, special reports and briefings. Other dissemination methods are encouraged.

Part IV, Section C, Disposition of Applications on page 41428, third column, becomes Part IV, Section E, Disposition of Applications.

Part IV, Section D, The Catalog of Federal Domestic Assistance Number, on page 41428, third column, becomes Part IV, Section F, the Catalog of Federal Domestic Assistance Number.

Part IV, Section E, Components of Complete Application, on page 41428, third column, becomes Part IV, Section G, Components of a Complete Application: National Poverty Research Center and Area Poverty Research Centers.

Part IV, Section G(8), Project Narrative Statement, on page 41428, third column, is corrected to read as follows:

8. Project Narrative Statement for the National Poverty Research Center, organized in 6 sections:

(a) Overview

(b) Research Agenda

(c) Staff and Organizational Data

(d) Training and Mentoring Emerging Scholars

(e) Budget Narrative

(f) Dissemination Plan

Project Narrative for the Area Poverty Research Centers, organized in 7 sections:

(a) Overview

(b) Key Trends and Past Research Analysis

(d) Staff and Organizational Data

(e) Training and Mentoring Emerging Scholars

(f) Budget Narrative

(g) Dissemination Plan

Dated: June 3, 2002.
William F. Raub,
Principal Deputy for Secretary for Planning and Evaluation.

[FR Doc. 02-17990 Filed 7-16-02; 8:45 am]

BILLING CODE 4150-28-P